COMMODITY FUTURES TRADING COMMISSION

Renewal of the Market Risk Advisory Committee

AGENCY: Commodity Futures Trading Commission.

ACTION: Notice.

SUMMARY: The Commodity Futures Trading Commission (Commission) is publishing this notice to announce the renewal of the Market Risk Advisory Committee (MRAC). The Commission has determined that the renewal of the MRAC is necessary and in the public's interest, and the Commission has consulted with the General Services Administration's Committee Management Secretariat regarding the MRAC's renewal.

FOR FURTHER INFORMATION CONTACT: Petal Walker, MRAC Designated Federal Officer, at 202-418-5794 or pwalker@cftc.gov.

SUPPLEMENTARY INFORMATION: The MRAC's objectives and scope of activities are to conduct public meetings and submit reports and recommendations to the Commission on: (1) Systemic issues that impact the stability of the derivatives markets and other related financial markets; and (2) the impact and implications of the evolving market structure of the derivatives markets and other related financial markets. The MRAC will also advise and make recommendations on monitoring and managing systemic risk and on ensuring the integrity of the derivatives markets and other related financial markets to support the Commission's mission. The MRAC will operate for two years from the date of renewal unless the Commission directs that the MRAC terminate on an earlier date. A copy of the MRAC renewal charter has been filed with the Commission; the Senate Committee on Agriculture, Nutrition and Forestry; the House Committee on Agriculture; the Library of Congress; and the General Services Administration's Committee Management Secretariat. A copy of the renewal charter will be posted on the Commission's Web site at www.cftc.gov.

Dated: May 20, 2016.
Christopher J. Kirkpatrick,
Secretary of the Commission.

[FR Doc. 2016-12316 Filed 5-24-16; 8:45 am]

BILLING CODE 6351-01-P